ENVIRONMENTAL PROTECTION AGENCY

40 CFR Parts 52 and 70

[EPA-R07-OAR-2021-0266; FRL-10022-68-Region 7]

Air Plan Approval; Iowa; State Implementation Plan and State Plans for Designated Facilities and Pollutants

AGENCY: Environmental Protection Agency (EPA).

ACTION: Proposed rule.

SUMMARY: The Environmental Protection Agency (EPA) is proposing to approve revisions to the Iowa State Implementation Plan (SIP) and is also proposing to approve revisions to the Iowa Operating Permit Program. The revisions include updating definitions, regulatory references, requiring facilities to submit electronic emissions inventory information under the state's Title V permitting program, and updating references for the most recent federally approved minimum specifications and quality assurance procedures for performance evaluations of continuous monitoring systems. EPA is also proposing to approve previous revisions to the Operating Permit Program that allow for electronic document submission that meet EPA's requirements. These revisions will not impact air quality and will ensure consistency between the state and Federally approved rules.

DATES: Comments must be received on or before May 24, 2021.

ADDRESSES: Submit your comments, identified by Docket ID No. EPA-R07-OAR-2021-0266 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Stephen Krabbe, Environmental Protection Agency, Region 7 Office, Air Quality and Planning Branch, 11201 Renner Boulevard, Lenexa, Kansas 66219; telephone number: (913) 551-7991 or by email at krabbe.stephen@epa.gov.

SUPPLEMENTARY INFORMATION: Throughout this document “we,” “us,” and “our” refer to EPA.

Table of Contents

I. Written Comments

II. What is being addressed in this document?

III. What SIP revisions are being proposed by EPA?

IV. What operating permit plan revisions are being proposed by EPA?

V. Have the requirements for approval of a SIP and the operating permits program revisions been met?

VI. What actions are proposed?

VII. Incorporation by Reference

VIII. Statutory and Executive Order Reviews

I. Written Comments

Submit your comments, identified by Docket ID No. EPA-R07-OAR-2021-0266, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. What is being addressed in this document?

EPA is proposing to approve a submission from the State of Iowa to revise its SIP and the Operating Permits Program. On August 12, 2020, the Iowa Department of Natural Resources (IDNR) submitted a request to revise the SIP to incorporate recent changes to Iowa Administrative Code, including provisions relating to electronic submittal of information to IDNR that were revised in previous state rulemakings. The following chapters are impacted:

• Chapter 20, “Scope of Title—Definitions;”

• Chapter 22, “Controlling Pollution;”

• Chapter 23, “Emission Standards for Contaminants;”

• Chapter 25, “Measurement of Emissions;” and

• Chapter 33, “Special Regulations and Construction Permit Requirements for Major Stationary Sources—Prevention of Significant Deterioration (PSD) of Air Quality.”

The revision includes a request for EPA to approve references in Chapter 22 to allow for electronic submittal of air quality permit applications, streamlined alternatives to traditional applications, such as registrations, notifications, and template applications, construction permit applications, acid rain permit applications, notifications, emissions inventory, certifications, determination requests, fees, forms, and payments. Iowa previously submitted requests for EPA to approve these provisions into the SIP, but either subsequently withdrew the provisions or EPA did not propose to approve the revisions for reasons discussed in more detail below.

The revision includes the new definitions of “electronic format”, “electronic submittal”, and “electronic submittal format”. The revisions also update the construction permit application provisions to specify the types of submittals that may be included in an electronic submittal option, updates methods and procedures for stack sampling and associated analytical methods, updates the definition of “volatile organic compounds” for prevention of significant deterioration (PSD) and updates the applicability of the PSD rule to construction of any new “major stationary source”. The specific changes and EPA analysis are discussed in more detail below.

In the August 12, 2020 submittal, the State included a request to revise the definition of “anaerobic lagoons”. On February 3, 2021, the State clarified that it wished to exclude the definition of “anaerobic lagoons” from its request to revise the SIP. EPA has not historically approved the definition of “anaerobic lagoons” into the Iowa SIP because the CAA does not regulate odors from these units; air releases (odors) from anaerobic lagoons are regulated by the state and local regulations.

Sections 111 and 112 of the Clean Air Act (CAA) allow EPA to delegate authority to states for New Source Performance Standards (NSPS) and National Emission Standards for Hazardous Air Pollutants (NESHAPs). EPA has delegated authority to Iowa for approved portions of these sections of the CAA. Changes made to Iowa's Chapter 23 pertaining to new and revised NSPS and NESHAPs are not directly approved into the SIP, but rather, are adopted by reference. Thus, EPA is not proposing to approve these changes to Iowa Administrative Code into the state's SIP.

III. What SIP revisions are being proposed by EPA?

EPA is proposing the following revisions to the Iowa SIP:

Chapter 20, Subrule 20.1, Scope of Title-Definitions: The state revised the definition of “EPA reference method” to adopt methods for performance test (stack test) and continuous monitoring systems, approved by EPA on November 14, 2018. The update will ensure that state reference methods are equivalent to Federal reference methods; thus, EPA proposes to approve this change.

Chapter 20, Subrule 20.1, Scope of Title-Definitions: The state also revised the definition of “volatile organic compound”, or “VOC” to adopt the definition in 40 CFR 51.100(s) as amended on November 18, 2018; thus, EPA proposes to approve this change.

Chapter 20, Subrule 20.1, Scope of Title-Definitions: The state also adopted the new definition of “electronic format” in chapters 20 through 35, to mean a software, internet-based, or other electronic means specified by the department for submitting information or fees. EPA proposes to approve this change.

Chapter 22, subrules 22.1(3): Pursuant to the Cross Media Electronic Reporting Rule (CROMERR) (40 CFR part 3), EPA published a document on December 9, 2015 in the Federal Register, approving Iowa's State and Local Emissions Inventory System (SLEIS) for electronic reporting under Parts 51 and 70. 80 FR 76474 (December 9, 2015). As such, EPA is approving the following provision of subrule 22.1(3) which states,

“ References to “application(s)”, “certification(s)”, “determination request(s)”, “emissions inventory(ies)”, “fees”, “form(s)”, “notification(s)”, “payment(s)”, “permit application(s)”, and “registration(s),” in rules 567-22.1(455B) through 22.10(455B) may, as specified by the department, include electronic submittal . .”

In addition, the new definition of “electronic format” has been adopted to allow electronic submittal of “application(s),” “certification(s),” “determination request(s),” “emissions inventory(ies),” “fees,” “form(s),” “notification(s),” “payment(s),” “permit application(s),” and “registration(s)” in rules 567-22.1(455B) through 567-22.10(455B).

Chapter 25, Subrule 25.1(9) Measurement of Emissions: The State revised subrule 25.1(9),“Methods and Procedures,” to adopt the performance test method as specified in 40 CFR part 51, appendix M (as amended through November 14, 2018); 40 CFR part 60, appendix A (as amended through November 14, 2018); 40 CFR part 61, appendix B (as amended through August 30, 2016); and 40 CFR part 63, appendix A (as amended through November 14, 2018). This subrule was also revised to adopt the minimum performance specifications and quality assurance procedures for performance evaluations of continuous monitoring systems as specified in 40 CFR part 60, appendix B (as amended through November 14, 2018); 40 CFR part 60, appendix F (as amended November 14, 2018); 40 CFR part 75, appendix A (as amended through August 30, 2016); 40 CFR part 75, appendix B (as amended through August 30, 2016); and 40 CFR part 75, appendix F (as amended through August 30, 2016). The proposed update will ensure that state reference methods are equivalent to Federal reference methods and are no more stringent than Federal methods; thus, EPA proposes to approve this change.

IV. What operating permits plan revisions are being proposed by EPA?

EPA is proposing to approve the following revisions to the Operating Permits Program:

• Chapter 22, subrules 22.100(455B), and 22.120(455B): Pursuant to CROMERR), EPA published a document on January 31, 2020 in the Federal Register, approving Iowa's Environmental Application System for Air (EASY Air) for its operating permits program. January 31, 2020 (85 FR 5657). As such, EPA is approving the new definition of “electronic format” for the operating permits program to allow electronic submittal of “application(s),” “certification(s),” “determination request(s),” “emissions inventory(ies),” “fees,” “form(s),” “notification(s),” “payment(s),” “permit application(s),” and “registration(s)” in rules 567-22.100(455B) through 567-22.116(455B), 567-22.120(455B) through 567-22.146(455B).

• Chapter 22, subrule 22.100(455B): Also as discussed above, the definition of “EPA reference method” has similarly been revised in definitions for the operating permits program to adopt performance test (stack test) and continuous monitoring systems specified by EPA in 40 CFR part 51, appendix M (as amended through November 14, 2018); 40 CFR part 60, appendix A (as amended through November 14, 2018); 40 CFR part 61, appendix B (as amended through August 30, 2016); and 40 CFR part 63, appendix A (as amended through November 14, 2018), 40 CFR part 60, appendix B (as amended through November 14, 2018); 40 CFR part 60, appendix F (as amended through November 14, 2018); 40 CFR part 75, appendix A (as amended through August 30, 2016); 40 CFR part 75, appendix B (as amended through August 30, 2016); and 40 CFR part 75, appendix F (as amended through August 30, 2016). Referencing the updated method will ensure that state methods are equivalent to federal reference methods; thus, EPA proposes to approve this change.

• Chapter 22, subrule 22.128(4), Submission of copies: Revises the rule to require one copy of the acid rain permit application to either be submitted by mail to the air quality bureau or by electronic submittal. EPA proposes to approve this change.

• Chapter 33, Special Regulations and Construction Permit Requirements for Major Stationary Sources—Prevention of Significant Deterioration (PSD) of Air Quality: The State amended subrule 33.3(1) to include a definition of “volatile organic compounds” or “VOC”, which means any compound included in the definition of “volatile organic compounds” found at 40 CFR 51.100(s) as amended through November 28, 2018.

• The state also amended 33.3(2) introductory paragraph, “Applicability”, to update the requirements of this rule (PSD program requirements), which apply to the construction of any new “major stationary source” as defined in subrule 33.3(1) or any project at an existing major stationary source in an area designated as attainment or unclassifiable under section 107(d)(1)(A)(ii) or (iii) of the Act. In addition to the provisions set forth in rules 567-33.3(455B) through 567-33.9(455B), the provisions of 40 CFR part 51, appendix W (Guideline on Air Quality Models) as amended through January 17, 2017, are adopted by reference.

In the cover letter of its August 12, 2020, SIP revision request, Iowa requested EPA approval of previously submitted rule changes for its electronic document receiving system (now “Easy Air”) for construction and Title V permit applications, emissions reporting, and reporting for a component of its Title V program for Acid Rain.¹ The items were previously placed on public notice and approved by the Iowa Environmental Protection Commission as noted below.

¹ Iowa inadvertently requested approval of Rule 22.3(3) Conditions of approval (for construction permits), paragraph “f”, third sentence, pertaining to electronic submittal methods for construction permits. EPA previously approved this provision in a direct final action. January 16, 2014 (79 FR 2787).

• Rule 22.1(3), Construction Permits: The introductory paragraph, second sentence, which states, “Alternatively, the owner or operator may apply for a construction permit for a new or modified stationary source through the electronic submittal method specified by the department.” This subrule revision was requested by Iowa as Item #5 (ARC 7143 B) in a letter to EPA dated November 4, 2008, following public notice for a 30-day public comment period beginning February 4, 2008. No comments were received. In EPA's Direct Final SIP approval dated December 29, 2009 (74 FR 248) EPA did not take action on this subrule revision because Iowa had not yet received approval for its electronic document receiving system as meeting the requirements of CROMERR. Iowa also placed the subrule revision on public notice for comment from January 18 through February 20, 2017. EPA commented that the submission of permit applications via email is not CROMERR compliant. Iowa requested an applicability determination from EPA which confirmed EPA's initial finding. In response to the applicability determination, Iowa amended its subrule to remove the provision for accepting permit applications via email and placed the revisions on public notice from August 16 through September 5, 2017. This information is detailed in EPA's proposed rulemaking dated July 26, 2018 (83 FR 144).

• Subrule 22.105(1), Duty to Apply: Introductory paragraph, third sentence, which states, “Alternatively, an owner or operator may submit a complete and timely application through the electronic submittal format specified by the department.” This subrule revision was requested as Item #8 (ARC 7143 B) by Iowa in a letter to EPA dated November 4, 2008, following public notice for a 30-day public comment period beginning February 4, 2008. No comments were received. In EPA's Direct Final SIP approval dated December 29, 2009 (74 FR 248) EPA did not act on this subrule revision because Iowa had not yet received approval for its electronic document receiving system as meeting the requirements of the CROMERR. Iowa also placed this subrule revision on public notice for comment again from January 18 to February 20, 2017, and again from August 16 through September 5, 2017, due to a comment EPA had submitted on another subrule revision. No comments were received on the revision to subrule 22.105(1).

• Subrule 22.106(2) Emissions inventory and documentation due dates: Only sentence in this subrule, which states, “The emissions inventory shall be submitted through the electronic format specified by the department.” This subrule revision was made available for public comment from December 19, 2018 through January 22, 2019. No comments were received.

• Subrule 22.128(4), Submission of Copies (for approval into Acid Rain Program as a component of the Title V Program): The first sentence was revised to require one copy of the acid rain permit application to be submitted to the air quality bureau. In addition, Iowa requested approval of the sentence, which states, “Alternatively, the designated representative may, as specified by the department, submit the application through electronic submittal.” This subrule revision was listed as Item #7 in the public notice for this rulemaking; however, it was mistakenly listed on page 2 of the cover letter dated August 12, 2020, as a “previously submitted rule change.” Iowa issued a clarification to EPA by email dated March 15, 2021, which has been included in the docket supporting this action, requesting EPA's approval of this subrule revision.

Iowa published a Notice of Intent to Approve its electronic document receiving system for public comment from January 13 to February 15, 2010, and EPA approved Iowa's system as compliant with CROMERR. December 9, 2016 (80 FR 236). As noted above, each of these subrule revisions have been placed on public notice for review and comment. No adverse comments were received.

V. Have the requirements for approval of a SIP and the operating permits program revisions been met?

The August 12, 2020 submission met the public notice requirements for SIP submissions in accordance with 40 CFR 51.102. The State held a public comment period from March 11 to April 13, 2020, with a public hearing on April 13, 2020. No public comments were received.

The items related to electronic submittal of permit applications and emissions inventories, were placed on public notice at various dates specified above. The supporting documentation has been included in the docket. The only comment made specifically regarding the language pertaining to Iowa's electronic document receiving system was made by EPA and was resolved by EPA's approval of Iowa's electronic document receiving systems pursuant to CROMERR requirements.

The above submittals satisfy the completeness criteria of 40 CFR part 51, appendix V. In addition, these revisions meet the substantive SIP requirements of the CAA, including section 110 and implementing regulations. Finally, the revisions are also consistent with applicable EPA requirements of Title V of the CAA and 40 CFR part 70.

VI. What actions are proposed?

EPA is proposing to approve revisions to the Iowa SIP and the Operating Permits Program. The proposed revisions update the definitions of “EPA Reference Method” and “volatile organic compounds”, updates the definitions to adopt the most current EPA methods for measuring air pollutant emissions, performance testing, and continuous monitoring, and to reflect changes EPA has made to the definitions. Proposed revisions also add regulatory cross-references, and define “electronic format,” “electronic submittal,” and “electronic submittal format” to facilitate the Department's launch of EASY Air, a new online electronic method for submitting air quality permit applications.

EPA has determined that approval of these revisions will not impact air quality and will ensure consistency between the state and federally-approved rules, and ensure Federal enforceability of the state's revised air program rules.

VII. Incorporation by Reference

In this document, EPA is proposing to include regulatory text in an EPA final rule that includes incorporation by reference. In accordance with requirements of 1 CFR 51.5, EPA is proposing to incorporate by reference the Iowa Regulations described in the proposed amendments to 40 CFR part 52 set forth below. EPA has made, and will continue to make, these materials generally available through www.regulations.gov and at the EPA Region 7 Office (please contact the person identified in the FOR FURTHER INFORMATION CONTACT section of this preamble for more information).

VIII. Statutory and Executive Order Reviews

Under the Clean Air Act (CAA), the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Incorporation by reference, Intergovernmental relations, Particulate matter, Reporting and recordkeeping requirements, Volatile organic compounds.

40 CFR Part 70

Environmental protection, Administrative practice and procedure, Air pollution control, Intergovernmental relations, Operating permits, Reporting and recordkeeping requirements.

Dated: April 15, 2021.
Edward H. Chu,
Acting Regional Administrator, Region 7.

For the reasons stated in the preamble, EPA proposes to amend 40 CFR parts 52 and 70 as set forth below:

PART 52—APPROVAL AND PROMULGATION OF IMPLEMENTATION PLANS

1. The authority citation for part 52 continues to read as follows:

Authority: 42 U.S.C. 7401 et seq.

Subpart Q—Iowa

2. In § 52.820, the table in paragraph(c) is amended by revising the entries “567-20.1”, “567-22.1”, “567-25.1”, and “567-33.3” to read as follows:

§ 52.820 Identification of plan.

* * * * *

(c) * * *

EPA-Approved Iowa Regulations
Iowa citation | Title | State effective date | EPA approval date | Explanation
Iowa Department of Natural Resources, Environmental Protection Commission [567]
Chapter 20—Scope of Title—Definitions
567-20.1 | Scope of Title—Definitions | 7/22/2020 | [Date of publication of the final rule in the Federal Register], [Federal Register citation of the final rule] | The definitions for “anaerobic lagoon,” “odor,” “odorous substance,” “odorous substance source” are not SIP approved.
* * * * * * *
Chapter 22—Controlling Pollution
567-22.1 | Permits Required for New or Stationary Sources | 7/22/2020 | [Date of publication of the final rule in the Federal Register], [Federal Register citation of the final rule]
* * * * * * *
Chapter 25—Measurement of Emissions
567-25.1 | Testing and Sampling of New and Existing Equipment | 7/22/2020 | [Date of publication of the final rule in the Federal Register], [Federal Register citation of the final rule]
* * * * * * *
Chapter 33—Special Regulations and Construction Permit Requirements for Major Stationary Sources—Prevention of Significant Deterioration (PSD) of Air Quality
* * * * * * *
567-33.3 | Special Construction Permit Requirements for Major Stationary Sources in Areas Designated Attainment or Unclassified (PSD) | 7/22/2020 | [Date of publication of the final rule in the Federal Register], [Federal Register citation of the final rule] | Provisions of the 2010 PM2.5 PSD—Increments, SILs and SMCs rule, published in the Federal Register on October 20, 2010, relating to SILs and SMCs that were affected by the January 22, 2013, U.S. Court of Appeals decision are not, at the state's request, included in Iowa's SIP provisions (see Federal Register, March 14, 2014) (Vol. 79, No. 50).
* * * * * * *

* * * * *

PART 70—STATE OPERATING PERMIT PROGRAMS

3. The authority citation for part 70 continues to read as follows:

Authority: 42 U.S.C. 7401, et seq.

4. In appendix A to part 70 the entry for “Iowa” is amended by adding paragraph (w) to read as follows:

Appendix A to Part 70—Approval Status of State and Local Operating Permits Programs

* * * * *

Iowa

* * * * *

(w) The Iowa Department of Natural Resources submitted for program approval revisions to rules 567-22.100, 567-22.120, 567-22.105(1), 567-22.106(2), and 567-22.128(4). The state effective date for 567-22.105(1) and 567-22.106(2) is April 17, 2019. The state effective date for 567-22.100, 567-22.120, and 567-22.128(4) is July 22, 2020. This revision is effective [date 60 days after date of publication of the final rule in the Federal Register].

* * * * *

[FR Doc. 2021-08278 Filed 4-21-21; 8:45 am]

BILLING CODE 6560-50-P